DEPARTMENT OF THE INTERIOR

Bureau of Land Management

[AK-023-01-1310-MQ-026L-241A]

Call for Nominations for National Petroleum Reserve—Alaska Research and Monitoring Advisory Team

SUMMARY: The purpose of this notice is to solicit public nominations for the Bureau of Land Management's National Petroleum Reserve—Alaska (NPR-A) Research and Monitoring Advisory Team (RMT). The RMT will provide advice and recommendations to the BLM's Northern Field Office Manager on issues pertaining to the adequacy and appropriateness of mitigative stipulations established in the Northeast NPR-A Integrated Activity Plan/Environment Impact Statement, Record of Decision (ROD), 1998.

The ROD directs the BLM to charter the RMT in accordance with the Federal Advisory Committee Act, which requires that membership to the RMT be designed to achieve balanced representation of the various interests relevant to surface resource protection in the NPR-A. The Secretary of the Interior will appoint representatives to the RMT from federal, state and North Slope Borough agencies; oil & gas or related industry; nationally or regionally recognized environmental or resource conservation organizations; academicians employed in natural resource management or the natural sciences; and the public at large. Appointees will serve three-year terms. Members will serve without salary, but will be reimbursed travel expenses according to government travel regulations.

This notice is a call for nominations from the nongovernment categories listed above. One member will be selected from each of four categories:

1—oil & gas or related industry;

2—nationally or regionally recognized environmental or resource conservation organizations;

3—academicians employed in natural resource management or the natural sciences; and

4—the public at large.

Individuals may nominate themselves or others. Nominees will be evaluated on their demonstrated professional or personal qualifications and expertise, such as in arctic biology and the scientific process, relevant to the functions and tasks to be performed by the RMT. Nominees should have a demonstrated commitment to collaborative decisionmaking. All nominations must be accompanied by letters of reference from represented interests or organizations, and any other information relevant to the nominee's qualifications.

Closing Date: Nominations must be sent to Herb Brownell at the address listed below, postmarked on or before March 28, 2001.

Nomination Form: May be obtained from BLM's Northern Field Office website at http://aurora.ak.blm.gov/npra or by contacting Herb Brownell, Tel: 907-474-2333, 1-800-437-7021; or email at Herb_Brownell@ak.blm.gov.

FOR FURTHER INFORMATION CONTACT: Herb Brownell, Bureau of Land Management, Northern Field Office, 1150 University Avenue, Fairbanks, AK 99709-3844; tel: 907-474-2333.

Dated: February 13, 2001.
Robert W. Schneider,
Manager, Northern Field Office.

[FR Doc. 01-4437 Filed 2-22-01; 8:45 am]

BILLING CODE 4310-JA-M